SMALL BUSINESS ADMINISTRATION

New Markets Venture Capital Program; Extension of Application Deadline

AGENCY: U.S. Small Business Administration.

ACTION: Notice of extension of application deadline.

SUMMARY: SBA invites applications for designation as a New Markets Venture Capital (“NMVC”) Company and for grant awards available both to participants in the NMVC Program and to Specialized Small Business Investment Companies. SBA extends its deadline for accepting applications from 4 p.m. on May 21, 2001 to 4 p.m. on May 29, 2001.

DATES: Applications may be submitted to SBA immediately. The deadline for receipt of an application has been extended to 4 p.m. EST on May 29, 2001. Applications received in SBA's offices after that date and time will be rejected and returned to the sender.

ADDRESSES: Applications must be sent to Austin Belton, Director, Office of New Markets Venture Capital, Investment Division, U.S. Small Business Administration, 409 3rd Street, SW., Suite 6300, Washington, DC 20416. Applications sent electronically or by facsimile will not be accepted.

FOR FURTHER INFORMATION CONTACT: If you have any questions about the requirements for this program or application procedures, or wish to request an application package, contact Austin Belton, Director, Office of New Markets Venture Capital, Investment Division, or Louis Cupp, Policy Analyst, Investment Division, 202-205-6510. Applications and other information regarding SBA and its programs may be downloaded from SBA's web site at http://www.sba.gov/inv.

SUPPLEMENTARY INFORMATION: SBA previously extended this application deadline from April 19, 2001 to May 21, 2001 (66 FR 18993, April 12, 2001). SBA originally published information about this funding opportunity in a Notice of Funds Availability (“NOFA”), published in the Federal Register on January 22, 2001 (66 FR 7247).

Applicants should refer to the NOFA (66 FR 7247) for more detailed information concerning this funding opportunity, including how to obtain applications and the amount of funds available for award. However, SBA makes one important revision to the NOFA. The NOFA referred applicants to an interim final rule SBA published in the Federal Register on January 22, 2001 (66 FR 7218). However, SBA will be withdrawing that interim final rule and, as a result, will not be implementing the NMVC program with that rule (see discussion in preamble to SBA's proposed rule, published in the Federal Register on April 23, 2001, 66 FR 20531-20532). Applicants instead are directed to a new final rule that SBA intends to publish in the Federal Register within a week of today's date. SBA will implement the NMVC program, including evaluating and selecting applications, through that new rule instead of through the interim final rule SBA previously published on January 22, 2001. Applicants should refer to SBA's new final rule for information concerning fee requirements, evaluation criteria, and other program requirements. SBA's new final rule will apply to all applications received for the NMVC program.

Authority: New Markets Venture Capital Program Act of 2001, Pub. L. No. 106-553, 114 Stat. 2762A; Federal Funding Act, Fiscal Year 2001, Pub. L. 106-554, 114 Stat. 2763; and 13 CFR part 108.

Dated: May 15, 2001.
Harry Haskins,
Acting Associate Administrator for Investment.

[FR Doc. 01-12585 Filed 5-17-01; 8:45 am]

BILLING CODE 8025-01-P